DEPARTMENT OF HEALTH AND HUMAN SERVICES

National Institutes of Health

National Institute on Alcohol Abuse and Alcoholism; Amended Notice of Meeting

Notice is hereby given of a change in the meeting of the National Advisory Council on Alcohol Abuse and Alcoholism, February 4, 2021, 11:00 a.m. to February 4, 2021, 5:00 p.m., National Institutes of Health, National Institute on Drug Abuse, 6700B Rockledge Drive, Bethesda, MD, 20892 which was published in the Federal Register on December 21, 2020, 85 FR 83101.

This notice is being amended to change the end time of the closed session as well as the start time and end time of the open session of the meeting. The closed session will now be held from 11:00 a.m. to 12:00 p.m. and the open session will now be held from 12:00 p.m. to 5:30 p.m. The meeting is partially closed to the public.

Dated: January 12, 2021.
Melanie J. Pantoja,
Program Analyst, Office of Federal Advisory Committee Policy.

[FR Doc. 2021-00921 Filed 1-14-21; 8:45 am]

BILLING CODE 4140-01-P